COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products and services to be furnished by nonprofit agencies employing persons who are blind or have other severe disabilities.

DATES: Comments Must Be Received on or Before: August 15, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions. If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Defense Supply Center Philadelphia Subsistence Items

Cottage Cheese, Dehydrated

NSN: 8910-01-E60-8830—#10 Cans

Milk, Nonfat, Dry

NSN: 8910-01-E60-8832—#10 Cans

Whole Egg Crystals

NSN: 8910-01-E60-8831—1.75 pound bags

NPA: Advocacy and Resources Corporation, Cookeville, Tennessee.

Contracting Activity: Defense Supply Center Philadelphia, Philadelphia, Pennsylvania.

Services

Service Type/Location: Custodial Services,

Alderson Plant Materials Center,

24910 Old Prison Farm Road, Alderson, West Virginia.

NPA: Gateway Industries, Inc., Ronceverte, West Virginia.

Contracting Activity: USDA, Natural Resources Conversation Service, Morgantown, WV.

Service Type/Location: Document Destruction (At the following National Archives and Records Administration (NARA) Locations),

NARA, Denver Federal Record Center,

Building 48, 6th and Kipling, Denver, Colorado.

NPA: Bayaud Industries, Inc., Denver, Colorado.

NARA, Laguna Niguel Federal Record Center,

24000 Avila Road, Laguna Niguel, California.

NPA: Landmark Services, Inc., Santa Ana, California.

Contracting Activity: National Archives & Records Administration, College Park, Maryland.

G. John Heyer,
General Counsel.

[FR Doc. 05-13967 Filed 7-14-05; 8:45 am]

BILLING CODE 6353-01-P